DEPARTMENT OF TRANSPORTATION

Federal Aviation Administration

14 CFR Part 39

[Docket No. FAA-2019-0439; Product Identifier 2019-NM-037-AD]

RIN 2120-AA64

Airworthiness Directives; Airbus SAS Airplanes

AGENCY: Federal Aviation Administration (FAA), DOT.

ACTION: Notice of proposed rulemaking (NPRM).

SUMMARY: We propose to supersede Airworthiness Directive (AD) 2012-22-18, which applies to all Airbus SAS Model A330-243, -243F, -341, -342, and -343 airplanes. AD 2012-22-18 requires repetitive inspections of the three inner acoustic panels of both engine air intake cowls to detect disbonding, and corrective actions if necessary. Since we issued AD 2012-22-18, we have received additional reports of engine air inlet cowl collapse. This proposed AD would retain the requirements of AD 2012-22-18 with a reduced compliance time and reduced repetitive inspection intervals. This proposed AD would also provide for an optional modification that is terminating action for the repetitive inspections. These actions are specified in a European Aviation Safety Agency (EASA) AD, which will be incorporated by reference. We are proposing this AD to address the unsafe condition on these products.

DATES: We must receive comments on this proposed AD by August 5, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For the material identified in this proposed AD that will be incorporated by reference (IBR), contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2019-0439; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Vladimir Ulyanov, Aerospace Engineer, International Section, Transport Standards Branch, FAA, 2200 South 216th St., Des Moines, WA 98198; telephone and fax 206-231-3229.

SUPPLEMENTARY INFORMATION:

Comments Invited

We invite you to send any written relevant data, views, or arguments about this proposal. Send your comments to an address listed under the ADDRESSES section. Include “Docket No. FAA-2019-0439; Product Identifier 2019-NM-037-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

We issued AD 2012-22-18, Amendment 39-17256 (77 FR 70366, November 26, 2012) (“AD 2012-22-18”), for all Airbus SAS Model A330-243, -243F, -341, -342, and -343 airplanes. AD 2012-22-18 requires repetitive inspections of the three inner acoustic panels of both engine air intake cowls to detect disbonding, and corrective actions if necessary. AD 2012-22-18 resulted from reports of extensive damage to engine air intake cowls as a result of acoustic panel detachment. We issued AD 2012-22-18 to address disbonding, which could result in detachment of the engine air intake cowl from the engine leading to ingestion of parts, which could cause failure of the engine, and possible injury to persons on the ground.

Actions Since AD 2012-22-18 Was Issued

Since we issued AD 2012-22-18, we have received additional reports of engine air inlet cowl collapse and made a determination that there should be a reduction of the existing compliance time and repetitive inspection intervals required by AD 2012-22-18.

The EASA, which is the Technical Agent for the Member States of the European Union, has issued EASA AD 2019-0042, dated February 27, 2019 (“EASA AD 2019-0042”) (also referred to as the Mandatory Continuing Airworthiness Information, or “the MCAI”), to correct an unsafe condition for all Airbus SAS Model A330-243, A330-243F, A330-341, A330-342 and A330-343 airplanes. The MCAI states:

Occurrences were reported on A330 aeroplanes fitted with Rolls-Royce Trent 700 engines, where the air inlet cowl was found with extensive damage, as a result of acoustic panel collapse. The technical investigation results revealed that these occurrences were caused by panel disbonding.

This condition, if not detected and corrected, could lead to in-flight detachment of an air inlet cowl acoustic panel, possibly resulting in damage to the aeroplane, and/or in damage to the engine by ingestion of parts, and/or injury to persons on the ground.

To initially address this potential unsafe condition, Airbus published the inspection [service bulletin] SB (original issue up to Revision 03), to provide instructions for [special detailed inspection] SDI of the three acoustic panels of air inlet cowl. Consequently, EASA issued AD 2011-0173 [which corresponds to FAA AD 2012-22-18] to require repetitive SDI of these air inlet cowl acoustic panels on both engines.

Since that [EASA] AD was issued, Airbus developed mod 202395, installation of improved inner acoustic panels, and published the modification SB, which constitutes an optional terminating action for the SDI. Consequently, EASA AD 2011-0173 was revised to introduce this optional terminating action.

Since that revised [EASA] AD was issued, new events of Rolls-Royce Trent 700 engines air inlet cowl collapse have been reported. These events only occurred on pre-mod 202395 engine air inlet cowls. Prompted by these findings, Airbus performed new calculations of the SDI threshold/interval values and those of the Acceptable/Repairable Damage Limits, leading to an amended inspection programme.

For the reasons described above, this [EASA] AD retains the requirements of EASA AD 2011-0173R1, which is superseded, and requires the SDI of affected parts at amended threshold(s) and interval(s), and, depending on findings, repair or replacement of affected parts. This [EASA] AD also allows a post-mod aeroplane to be modified, either partially or completely, to pre-mod configuration [which terminates the need for the repetitive inspections].

The initial compliance time for the special detailed inspection is within 12 months after an installation or inspection, or 6 months after the effective date of the AD, whichever occurs later; but not to exceed 24 months since the last inspection. The compliance times for the corrective action are before further flight and before 10 flight cycles since the last inspection, depending on the condition. The repetitive inspection interval is 12 months.

Explanation of Retained Requirements

Although this proposed AD does not explicitly restate the requirements of AD 2012-22-18, this proposed AD would retain all of the requirements of AD 2012-22-18, except the existing compliance time and repetitive inspection intervals are reduced. Those requirements are referenced in EASA AD 2019-0042, which, in turn, is referenced in paragraph (g) of this proposed AD.

Related IBR Material Under 1 CFR Part 51

EASA AD 2019-0042 describes procedures for repetitive inspections of engine air inlet cowls having certain part numbers, repair or replacement of any engine air inlet cowl that has disbonding, and an optional modification that terminates the need for the repetitive inspections. This material is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI referenced above. We are proposing this AD because we evaluated all pertinent information and determined an unsafe condition exists and is likely to exist or develop on other products of the same type design.

Proposed Requirements of This NPRM

This proposed AD would require accomplishing the actions specified in EASA AD 2019-0042 described previously, as incorporated by reference, except for any differences identified as exceptions in the regulatory text of this AD.

Explanation of Required Compliance Information

In the FAA's ongoing efforts to improve the efficiency of the AD process, the FAA worked with Airbus and EASA to develop a process to use certain EASA ADs as the primary source of information for compliance with requirements for corresponding FAA ADs. As a result, EASA AD 2019-0042 will be incorporated by reference in the FAA final rule. This proposed AD would, therefore, require compliance with the provisions specified in EASA AD 2019-0042, except for any differences identified as exceptions in the regulatory text of this proposed AD. Service information specified in EASA AD 2019-0042 that is required for compliance with EASA AD 2019-0042 will be available on the internet http://www.regulations.gov by searching for and locating Docket No. FAA-2019-0439 after the FAA final rule is published.

Costs of Compliance

We estimate that this proposed AD affects 47 airplanes of U.S. registry. We estimate the following costs to comply with this proposed AD:

Estimated Costs for Required Actions
Action | Labor cost | Parts cost | Cost per product | Cost on U.S. operators
Retained actions from AD 2012-22-18 | Up to 20 work-hours × $85 per hour = Up to $1,700 | $0 | $1,700 | Up to $79,900.

Estimated Costs for Optional Actions
Labor cost | Parts cost | Cost per product
Up to 154 work hours × $85 per hour = Up to $13,090 | (*) | Up to $13,090.*
* We have received no definitive data on the parts costs for the optional actions.

We estimate the following costs to do any necessary on-condition action that would be required based on the results of any required actions. We have no way of determining the number of aircraft that might need this on-condition action:

Estimated Costs of On-Condition Actions
Labor cost | Parts cost | Cost per product
Up to 34 work-hours × $85 per hour = Up to $2,890 | (*) | Up to $2,890.*
* We have received no definitive data on the parts costs for the on-condition actions.

The new requirements of this proposed AD add no additional economic burden. However, the optional modification, if done, would result in additional costs as specified in the “Estimate costs for optional actions” table.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-22-18, Amendment 39-17256 (77 FR 70366, November 26, 2012), and adding the following new AD:

Airbus SAS: Docket No. FAA-2019-0439; Product Identifier 2019-NM-037-AD.

(a) Comments Due Date

We must receive comments by August 5, 2019.

(b) Affected ADs

This AD replaces 2012-22-18, Amendment 39-17256 (77 FR 70366, November 26, 2012) (“AD 2012-22-18”).

(c) Applicability

This AD applies to all Airbus SAS Model A330-243, -243F, -341, -342, and -343 airplanes, certificated in any category.

(d) Subject

Air Transport Association (ATA) of America Code 71, Powerplant.

(e) Reason

This AD was prompted by reports of extensive damage to engine air intake cowls as a result of acoustic panel collapse. We are issuing this AD to address disbonding, which could result in detachment of the engine air intake cowl from the engine, leading to ingestion of parts, which could cause failure of the engine, and possible injury to persons on the ground.

(f) Compliance

Comply with this AD within the compliance times specified, unless already done.

(g) Requirements

Except as specified in paragraph (h) of this AD: Comply with all required actions and compliance times specified in, and in accordance with, European Aviation Safety Agency (EASA) AD 2019-0042, dated February 27, 2019 (“EASA AD 2019-0042”).

(h) Exceptions to EASA AD 2019-0042

(1) For purposes of determining compliance with the requirements of this AD: Where EASA AD 2019-0042 refers to its effective date, this AD requires using the effective date of this AD.

(2) The “Remarks” section of EASA AD 2019-0042 does not apply to this AD.

(i) No Reporting Requirement

Although the service information referenced in EASA AD 2019-0042 specifies to submit certain information to the manufacturer, this AD does not include that requirement.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0042 that contains RC procedures and tests: Except as required by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) For information about EASA AD 2019-0042, contact the EASA, Konrad-Adenauer-Ufer 3, 50668 Cologne, Germany; telephone +49 221 89990 6017; email ADs@easa.europa.eu; Internet www.easa.europa.eu. You may find this EASA AD on the EASA website at https://ad.easa.europa.eu. You may view this EASA AD at the FAA, Transport Standards Branch, 2200 South 216th St., Des Moines, WA. For information on the availability of this material at the FAA, call 206-231-3195. EASA AD 2019-0042 may be found in the AD docket on the internet at http://www.regulations.gov by searching for and locating Docket No. FAA-2019-0439.

(2) For more information about this AD, contact Vladimir Ulyanov, Aerospace Engineer, International Section, Transport Standards Branch, FAA, 2200 South 216th St., Des Moines, WA 98198; telephone and fax 206-231-3229.

Issued in Des Moines, Washington, on June 10, 2019.
Michael Kaszycki,
Acting Director, System Oversight Division, Aircraft Certification Service.

[FR Doc. 2019-12877 Filed 6-18-19; 8:45 am]

BILLING CODE 4910-13-P